DEPARTMENT OF AGRICULTURE

Submission for OMB Review; Comment Request

October 23, 2013.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Operating Guidelines, Forms and Waivers.

OMB Control Number: 0584-0083.

Summary of Collection: Under section 16 of the Food and Nutrition Act of 2008 (the Act), 7 U.S.C. 2025, the Secretary is authorized to pay each State agency an amount equal to 50 percent of all administrative costs involved in each State agency's operation of the Supplemental Nutrition Assistance Program (SNAP). Under corresponding SNAP regulations at 7 CFR 272.2(c), the State agency must submit to the Food and Nutrition Service (FNS) annually for approval a Budget Projection Statement (FNS-366A), which projects total costs for major areas of SNAP operations, and a Program Activity Statement (FNS-366B), which provides a summary of SNAP operations during the preceding fiscal year.

Need and Use of the Information: FNS will collect information to estimate funding needs and also provide data on the number of applications processed, number of fair hearings, and fraud control activity. FNS uses the data to estimate funding needs and to monitor State agency activity levels and performance. If the information were not collected it would disrupt budget planning and delay appropriation distributions and FNS would not be able to verify and ensure State compliance with statutory criteria.

Description of Respondents: State, Local or Tribal Government.

Number of Respondents: 53.

Frequency of Responses: Recordkeeping; Reporting: Annually.

Total Burden Hours: 2,866.

Ruth Brown,
Departmental Information Collection Clearance Officer.

[FR Doc. 2013-25372 Filed 10-28-13; 8:45 am]

BILLING CODE 3410-30-P